ENVIRONMENTAL PROTECTION AGENCY

40 CFR Chapter 1

[EPA-HQ-OA-2011-0156; FRL-9923-87-OA]

Improving EPA Regulations

AGENCY: Environmental Protection Agency (EPA).

ACTION: Notice; request for comment.

SUMMARY: The Environmental Protection Agency (EPA) is requesting public input on the agency's periodic retrospective review of its regulations. Executive Order 13563, “Improving Regulation and Regulatory Review,” and Executive Order 13610, “Identifying and Reducing Regulatory Burdens,” call on all federal agencies to conduct a retrospective analysis of rules that may be outmoded, ineffective, insufficient, or excessively burdensome and to modify, streamline, expand, or repeal them in accordance with what has been learned. The EPA is particularly seeking public input on how the agency can promote regulatory modernization through business-process streamlining, facilitated by improved technology.

DATES: Comments must be received on or before April 8, 2015.

ADDRESSES: Submit your comments, identified by Docket ID No. EPA-HQ-OA-2011-0156, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make. For additional submission methods, the full EPA public comment policy, and general guidance on making effective comments, please visit http://www.epa.gov/dockets/comments.html.

FOR FURTHER INFORMATION CONTACT: For further information on this document, please contact Nathaniel Jutras, Office of Policy, 1200 Pennsylvania Avenue NW., Mail Code 1803A, Washington, DC 20460, Phone: (202) 564-0301; Fax: (202) 564-8601; Jutras.Nathaniel@epa.gov.

SUPPLEMENTARY INFORMATION: The Environmental Protection Agency (EPA) is committed to a regulatory strategy that effectively achieves the Agency's mission of protecting the environment and the health, welfare, and safety of Americans while also supporting economic growth, job creation, competitiveness, and innovation.

Recognizing the importance of reducing unnecessary red tape—especially for America's small businesses—with Executive Orders 13563 and 13610 President Obama launched a historic review of existing rules to eliminate, streamline or update those that no longer make sense in their current form. This effort is on track to produce completed actions that will reduce nearly $20 billion in regulatory costs in the near term.

As part of this review, in August 2011 the agency issued its Final Plan for Periodic Retrospective Reviews of Existing Regulations (http://www.epa.gov/regdarrt/). This Plan was developed after extensive public outreach that sought input on an agency plan for retrospective review, as well as on possible reforms to modify, streamline, expand or repeal existing regulations. That outreach included 20 public meetings, town halls, and Webinars with over 600 participants. Since 2011, the EPA has maintained an open comment docket for public feedback on the existing Plan for Periodic Retrospective Review of Existing Regulations and the subsequent progress reports. To date, we have completed 21 of our original 35 retrospective reviews. We added five new reviews in July 2014.

The EPA views this review process as an ongoing exercise and is seeking further public input to ensure our regulations continue to maximize net social benefit. The focus of this new request for input is on how the agency can promote regulatory modernization through business-process streamlining facilitated by improved technology. We specifically solicit comments on the following questions:

Which regulations, including economically significant rules, could be transitioned from paper to electronic reporting?

How can the EPA reduce duplicative reporting requirements in existing regulations that may overlap other federal requirements?

How can the EPA streamline or consolidate reporting requirements to reduce burden?

Which regulations could benefit from the use of existing shared services (such as the Substance Registry System) or new shared services?

Should the EPA create a joint registry of regulated facilities with states and tribes to streamline electronic reporting to multiple programs and maximize burden reduction?

Which regulations could be improved through the use of advance monitoring techniques or the development of mobile applications to facilitate environmental protection?

Which regulations could be amended to reduce the frequency of reporting while maintaining effective programs?

Is the same information being collected in multiple places, either across different regulations, or across different levels of government (Federal, State, Tribal, and local)?

We request that commenters be as specific as possible, include any supporting data or other information, and provide a citation when referencing a specific regulation. In addition, in drafting comments, bear in mind that the EPA must uphold both its legal obligations under governing statutes and its mission to protect human health and the environment; and that the EPA's retrospective review will be tailored to reflect its resources, rulemaking schedule, and workload.

Additionally, the EPA published a notice on January 26, 2015 seeking comment on the development of an online portal to serve as a consolidated entry point for providing information, tools and streamlined interactions with the EPA by the public and regulated entities (80 FR 3962). Commenters may wish to review this notice and consider how such a portal could be used while considering regulations that the EPA should include in its review.

The EPA is accepting comments until April 8, 2015. Although the agency will not respond to individual comments, the EPA values and will give careful consideration to all input that it receives. Please see http://www.epa.gov/regdarrt/retrospective/history.html for additional information and updates.

Dated: February 26, 2015.
Joel Beauvais,
Associate Administrator, Office of Policy.

[FR Doc. 2015-05303 Filed 3-6-15; 8:45 am]

BILLING CODE 6560-50-P